DEPARTMENT OF JUSTICE

[OMB Number 1122-0021]

Agency Information Collection Activities; Proposed eCollection eComments Requested; Extension of a Previously Approved Collection; Semiannual Progress Report for the Grants To Enhance Culturally Specific Services for Victims of Sexual Assault, Domestic Violence, Dating Violence, and Stalking Program

AGENCY: Office on Violence Against Women, Department of Justice.

ACTION: 60-Day notice.

SUMMARY: The Office on Violence Against Women, Department of Justice (DOJ), will be submitting the following information collection request to the Office of Management and Budget (OMB) for review and approval in accordance with the Paperwork Reduction Act of 1995.

DATES: Comments are encouraged and will be accepted for 60 days until July 7, 2025.

FOR FURTHER INFORMATION CONTACT: If you have additional comments especially on the estimated public burden or associated response time, suggestions, or need a copy of the proposed information collection instrument with instructions or additional information, please contact Catherine Poston, Office on Violence Against Women, at 202-514-5430 or Catherine.poston@usdoj.gov.

SUPPLEMENTARY INFORMATION: Written comments and suggestions from the public and affected agencies concerning the proposed collection of information are encouraged. Your comments should address one or more of the following four points:

—Evaluate whether the proposed collection of information is necessary for the proper performance of the functions of the Office on Violence Against Women, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: The Grants to Enhance Culturally Specific Services for Victims of Sexual Assault, Domestic Violence, Dating Violence, and Stalking Program (Culturally Specific Services Program) supports culturally specific community-based organizations in addressing the critical needs of sexual assault, domestic violence, dating violence, and stalking victims in a manner that affirms a victim's culture. Advocates report that survivors are more inclined to seek services from organizations that are familiar with their culture, language, and background and that there is no “one size fits all” approach to adequately address these critical needs. Culturally specific community-based organizations are more likely to understand the complex, multi-layered challenges and obstacles that victims from their communities face when attempting to access services. Eligible applicants are limited to: private nonprofit organizations for which the primary purpose of the organization as a whole is to provide culturally specific services to American Indians (including Alaska Natives, Eskimos, and Aleuts), Asian Americans, Native Hawaiians and other Pacific Islanders, Blacks, or Hispanics. This program is authorized by 34 U.S.C. 20124.

Overview of This Information Collection

1. Type of Information Collection: Extension of a currently approved collection.

2. Title of the Form/Collection: Semiannual Progress Report for the Grants to Enhance Culturally Specific Services for Victims of Sexual Assault, Domestic Violence, Dating Violence, and Stalking Program

3. Agency form number, if any, and the applicable component of the Department of Justice sponsoring the collection: Form Number: 1122-0021. U.S. Department of Justice, Office on Violence Against Women

4. Affected public who will be asked or required to respond, as well as a brief abstract: The Grants to Enhance Culturally Specific Services for Victims of Sexual Assault, Domestic Violence, Dating Violence, and Stalking Program (Culturally Specific Services Program) supports culturally specific community-based organizations in addressing the critical needs of sexual assault, domestic violence, dating violence, and stalking victims in a culturally specific manner. Eligible applicants are limited to: private nonprofit organizations for which the primary purpose of the organization as a whole is to provide culturally specific services to American Indians (including Alaska Natives, Eskimos, and Aleuts), Asian Americans, Native Hawaiians and other Pacific Islanders, Blacks, or Hispanics. This program is authorized by 34 U.S.C. 20124.

5. An estimate of the total number of respondents and the amount of time estimated for an average respondent to respond/reply: The affected public includes the approximately 50 grantees of the Culturally Specific Services Program. The program funds projects that promote the maintenance and replication of existing successful domestic violence, dating violence, sexual assault, and stalking community-based programs providing culturally specific services. It is estimated that it will take the approximately 50 respondents (Culturally Specific Services Program grantees) approximately one hour to complete a semi-annual progress report. The semi-annual progress report is divided into sections that pertain to the different types of activities in which grantees may engage. A Culturally Specific Services Program grantee will only be required to complete the sections of the form that pertain to its own specific activities.

6. An estimate of the total public burden (in hours) associated with the collection: The total semiannual hour burden to complete the data collection form is 100 hours, that is 50 grantees completing a form twice a year with an estimated completion time for the form being one hour.

7. An estimate of the total annual cost burden associated with the collection, if applicable: The annualized costs to the Federal Government resulting from the OVW staff review of the progress reports submitted by grantees are estimated to be $5,600.

Total Burden Hours
Activity | Number of respondents | Frequency (semiannually) | Total annual responses | Time per response (hours) | Total annual burden (hours)
Progress Report Form | 50 | 2 | 100 | 1 | 100
Unduplicated Totals | 50 |  | 100 |  | 100

If additional information is required contact: Darwin Arceo, Department Clearance Officer, United States Department of Justice, Justice Management Division, Policy and Planning Staff, Two Constitution Square, 145 N Street NE, 4W-218, Washington, DC.

Dated: April 29, 2025.
Darwin Arceo,
Department Clearance Officer for PRA, U.S. Department of Justice.

[FR Doc. 2025-07688 Filed 5-2-25; 8:45 am]

BILLING CODE 4410-FX-P